DEPARTMENT OF LABOR

Employment and Training Administration

[TA-W-70,910]

Sypris Technologies, Sypris Solutions Division, Kenton, OH; Notice of Affirmative Determination Regarding Application for Reconsideration

By application sent to this office on March 19, 2010, the United Steel Workers, Local 1-109, requested administrative reconsideration of the negative determination regarding workers' eligibility to apply for Trade Adjustment Assistance (TAA) applicable to workers and former workers of the subject firm. The Notice of determination was issued on February 18, 2010, and was published in the Federal Register on March 12, 2010 (75 FR 11925). The workers produce trailer axels.

The negative determination was based on the findings that, during the relevant period, there was no increase in imports of articles like or directly competitive with the trailer axles produced by the subject firm, and no shift to/acquisition from a foreign country by the subject firm of articles like or directly competitive with trailer axles. The investigation also revealed that the subject firm did not supply a component part to a firm that employed a worker group eligible to apply for TAA and directly incorporated the component part into the finished article that was the basis for the TAA certification.

The request for reconsideration alleges that the subject firm used to manufacture “drive axels housings, steering arms, brake shoes and many other components in the heavy truck industry” in addition to trailer axels.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26896 Filed 10-22-10; 8:45 am]

BILLING CODE 4510-FN-P